DEPARTMENT OF TRANSPORTATION

Federal Highway Administration

Federal Transit Administration

Notice of Limitation on Claims Against a Proposed Transportation Project

AGENCY: Federal Highway Administration (FHWA), Federal Transit Administration (FTA), DOT.

ACTION: Notice of limitation on claims for judicial review of actions by FHWA, FTA and other agencies.

SUMMARY: This notice announces final environmental actions taken by FHWA, FTA, and other agencies that are final within the meaning of Federal transportation law. The actions relate to the Interstate 5 Columbia River Crossing Project in Clark County, Washington and Multnomah County, Oregon.

DATES: By this notice, FHWA and FTA are advising the public of final agency actions subject to 23 U.S.C. 139(l). A claim seeking judicial review of the Federal agency actions announced herein for the listed transportation project will be barred unless the claim is filed on or before July 3, 2012.

FOR FURTHER INFORMATION CONTACT: John McAvoy, Major Project Manager, Federal Highway Administration, Western Federal Lands Highway Division, 610 E. Fifth Street, Vancouver, WA 98661; telephone: (360) 619-7591; and email: john.mcavoy@dot.gov, or Terence Plaskon, Environmental Protection Specialist, Office of Planning and the Environment, FTA; telephone: (202) 366-0442; and email: terence.plaskon@dot.gov. FHWA and FTA headquarters are located at 1200 New Jersey Avenue SE., Washington, DC 20590. Office hours are from 9 a.m. to 5:30 p.m., EST, Monday through Friday, except Federal holidays.

SUPPLEMENTARY INFORMATION: Notice is hereby given that FHWA, FTA and other agencies have taken final agency actions by issuing licenses, permits, and approvals for the transportation project in the States of Oregon and Washington. Federal Lead Agencies: Federal Highway Administration (FHWA) and Federal Transit Administration (FTA). Project Sponsors: Oregon and Washington Departments of Transportation (ODOT, WSDOT), Southwest Washington Regional Transportation Council (RTC), Metro, Clark County Public Transportation Benefit Area (C-TRAN), and Tri-County Metropolitan Transportation District (TriMet). Project Description: The project is a bridge, transit, highway, and bicycle and pedestrian improvement project, consisting of a new river crossing over the Columbia River, improvements to highway interchanges and the local street network, bicycle and pedestrian improvements, and an extension of light rail from the Expo Center in Portland (OR) to Clark College in Vancouver (WA). The actions by the Federal and other agencies on this project, as well as the laws under which such actions were taken, are described in the Final Environmental Impact Statement (FEIS) for the project published in the Federal Register on September 23, 2011, and in the Record of Decision issued on December 7, 2011. The FEIS and ROD are available by contacting FHWA at the address above or can be downloaded from the project Web site at www.columbiarivercrossing.org.

This notice applies to all FHWA, FTA, and other agency decisions on the listed project as of the issuance date of this notice and all laws under which such actions were taken, including, but not limited to those arising under the following laws, as amended:

1. General: National Environmental Policy Act [42 U.S.C. 4321-4347]; Federal-Aid Highway Act [23 U.S.C. 109]; the Federal transit statutes [49 U.S.C. Chapter 53].

2. Air: Clean Air Act, as amended [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544]; Anadromous Fish Conservation Act [16 U.S.C. 757(a)-757(f)]; Fish and Wildlife Coordination Act [16 U.S.C. 661-667(e)]; Magnuson-Stevenson Fishery Conservation and Management Act of 1976, as amended [16 U.S.C. 1801 et seq.]; Migratory Bird Treaty Act [16 U.S.C. 703-712].

5. Historic and Cultural Resources: Section 106 of the National Historic Preservation Act of 1966, as amended [16 U.S.C. 470f]; Archaeological Resources Protection Act of 1977 [16 U.S.C. 470aa-470mm]; Archaeological and Historic Preservation Act [16 U.S.C. 469-469c-2]; Native American Grave Protection and Repatriation Act [25 U.S.C. 3001-3013].

6. Social and Economic: Civil Rights Act of 1964 [42 U.S.C. 2000(d)-2000(d)(1)); American Indian Religious Freedom Act [42 U.S.C. 1996); Farmland Protection Policy Act [7 U.S.C. 4201-4209]; the Uniform Relocation Assistance and Real Property Acquisition Policies Act of 1970, as amended [42 U.S.C. 61].

7. Wetlands and Water Resources: Clean Water Act, 33 U.S.C. 1251-1377 [Section 404, Section 401, Section 319]; Coastal Zone Management Act [16 U.S.C. 1451-1465]; Land and Water Conservation Fund [16 U.S.C. 4601-4-4601-11]; Safe Drinking Water Act [42 U.S.C. 300f et seq.]; Rivers and Harbors Act of 1899 [33 U.S.C. 401-406]; TEA-21 Wetlands Mitigation [23 U.S.C. 103(b)(6)(m), 133(b)(11)]; Flood Disaster Protection Act [42 U.S.C. 4001-4129].

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction. The regulations implementing Executive Order 12372 regarding intergovernmental consultation on Federal programs and activities apply to this program.) Nothing in this notice creates a cause of action under these executive orders.

Issued on: December 29, 2011.
John McAvoy,
FHWA Major Project Manager, Vancouver, WA.
Lucy Garliauskas,
Associate Administrator for Planning and Environment, Washington, DC.

[FR Doc. 2011-33784 Filed 1-4-12; 8:45 am]

BILLING CODE 4910-57-P